FEDERAL DEPOSIT INSURANCE CORPORATION

12 CFR Chapter III

Agency Reorganization; Nomenclature Changes

AGENCY: Federal Deposit Insurance Corporation (FDIC).

ACTION: Final rule.

SUMMARY: On June 30, 2002, the FDIC, through an internal organizational order, merged the Division of Supervision and the Division of Compliance and Consumer Affairs and as a result of the merger, changed the name of the “Division of Supervision” and “Division of Compliance and Consumer Affairs” to the “Division of Supervision and Consumer Protection” (DSC). In addition, the internal reorganizational order merged the Division of Insurance and the Division of Research and Statistics and changed the name of the “Division of Insurance” to the “Division of Insurance and Research.” Consistent with this action, this rule makes appropriate conforming changes in chapter III of title 12 of the Code of Federal Regulations. The rule also sets forth a Savings Provision in SUPPLEMENTARY INFORMATION that preserves, under the new names, all actions taken under the name of the “Division of Supervision,” “Division of Compliance and Consumer Affairs” and the “Division of Insurance” and provides that any references to the Division of Supervision and Division of Compliance and Consumer Affairs or the Division of Insurance respectively in any document or other communication shall be deemed to be references to the Division of Supervision and Consumer Protection or the Division of Insurance and Research respectively.

DATES: This rule is effective June 30, 2002.

FOR FURTHER INFORMATION CONTACT: Legal Division: Robert E. Feldman, Executive Secretary (202) 898-3811, Susan van den Toorn, Counsel, (202) 898-8707, Federal Deposit Insurance Corporation, 550 17th Street, NW, Washington, DC 20429.

SUPPLEMENTARY INFORMATION:

Background

This rule implements the decision by the FDIC, through an internal reorganization order dated June 30, 2002 to merge certain divisions of the FDIC and, as a result, to change the names of the “Division of Supervision” and the “Division of Compliance and Consumer Affairs” to the “Division of Supervision and Consumer Protection (DSC) and the name of the “Division of Insurance” to the “Division of Insurance and Research (DIR)”. These new names more accurately reflect the breadth of the Divisions' activities as a result of the FDIC reorganization. Consistent with these name changes, this rule makes a number of changes in chapter III of title 12 of the Code of Federal Regulations. Specifically, this rule changes all references to “Division of Supervision”, and “DOS”, “Division of Compliance and Consumer Affairs”, and “DCA” wherever they appear in chapter III to the “Division of Supervision and Consumer Protection” and “DSC” respectively. In addition, the rule changes all references to “Division of Insurance” and “DOI” to the “Division of Insurance and Research” and “DIR” wherever they appear in chapter III. At a later date, the FDIC intends to make further revisions to 12 CFR chapter III to reflect other changes as a result of the reorganization and recent statutory changes.

Savings Provision

This rule shall constitute notice that all references to the Division of Supervision (DOS), the Division of Compliance and Consumer Affairs (DCA) or the Division of Insurance (DOI) in any documents, statements, or other communications, in any form or media, and whether made before, on or after the effective date of this rule, shall be deemed to be references to the Division of Supervision and Consumer Protection (DSC) or the Division of Insurance and Research (DIR). Any actions undertaken in the name of or on behalf of the Division of Supervision (DOS), the Division of Compliance and Consumer Affairs (DCA) or Division of Insurance (DOI) whether taken before, on, or after the effective date of this rule, shall be deemed to have been taken in the name of or on behalf of the Division of Supervision and Consumer Protection (DSC) or Division of Insurance and Research (DIR) respectively.

Rulemaking Requirements

1. This rule does not impose information collection and recordkeeping requirements. Consequently, it need not be reviewed by the Office of Management and Budget under the provisions of the Paperwork Reduction Act of 1995.

2. The provisions of the Administrative Procedure Act (5 U.S.C. 553) requiring notice of proposed rulemaking, the opportunity for public participation, and a delay in effective date, are inapplicable because this rule involves a rule of agency organization, procedure, or practice. 5 U.S.C. 553(b)(B). Further, no other law requires that a notice of proposed rulemaking and an opportunity for public comment be given for this final rule. Because a notice of proposed rulemaking and opportunity for public comment are not required to be given for this rule under 5 U.S.C. or by any other law, the analytical requirements of the Regulatory Flexibility Act (5 U.S.C. 601, et seq.) are not applicable. Accordingly, this rule is issued in final form. Although there is no formal comment period, public comments on this rule are welcome on a continuing basis. Comments should be submitted to Thomas E. Nixon, FDIC Clearance Officer, Legal Division, 550 17th Street, NW, Washington, DC 20429, (202) 898-8766. Comments may be hand-delivered to the guard station at the rear of the 17th Street building (located on F Street) on business days between 7 a.m. and 5 p.m. [Fax number (202) 898-3838; Internet address COMMENTS@FDIC.GOV].

For the reasons set forth in the preamble, under the authority of 12 U.S.C. 1819(a)(tenth), 12 CFR chapter III is amended as set forth below:

CHAPTER III—[AMENDED]

In 12 CFR chapter III revise all references to “Division of Supervision” and “Division of Compliance and Consumer Affairs” to read the “Division of Supervision and Consumer Protection (DSC)”, revise all references to “DOS” to read “DSC”, all references to “DCA” to read “DSC”, all references to “DOS and DCA” to read “DSC”, all references to “DOS or DCA” to read “DSC”, all references to “Division of Supervision's” to read “Division of Supervision and Consumer Protection's”, all references to Division of Compliance and Consumer Affairs”' to read “Division of Supervision and Consumer Protection's”. Also in 12 CFR chapter III revise all references to the “Division of Insurance” to read the “Division of Insurance and Research”, all references to “DOI” to read “DIR” and all references to “Division of Insurance's” to read “Division of Insurance and Research's”.

Dated: June 26, 2002.
Federal Deposit Insurance Corporaiton.
Robert E. Feldman,
Executive Secretary.

[FR Doc. 02-16604 Filed 7-1-02; 8:45 am]

BILLING CODE 6714-01-P